DEPARTMENT OF COMMERCE

International Trade Administration

[A-428-847, A-475-840]

Forged Steel Fluid End Blocks From the Federal Republic of Germany and Italy: Amended Final Antidumping Duty Determination for the Federal Republic of Germany and Antidumping Duty Orders

AGENCY: Enforcement and Compliance, International Trade Administration, Department of Commerce.

SUMMARY: Based on affirmative final determinations by the Department of Commerce (Commerce) and the International Trade Commission (ITC), Commerce is issuing antidumping duty orders on forged steel fluid end blocks from the Federal Republic of Germany (Germany) and Italy. In addition, Commerce is amending its final affirmative determination with respect to Germany.

DATES: Applicable January 29, 2021.

FOR FURTHER INFORMATION CONTACT: Katherine Johnson (Germany) or Hermes Pinilla (Italy), AD/CVD Operations, Enforcement and Compliance, International Trade Administration, U.S. Department of Commerce, 1401 Constitution Avenue NW, Washington, DC 20230; telephone: (202) 482-4929 or (202) 482-3477, respectively.

SUPPLEMENTARY INFORMATION:

Background

On December 11, 2020, Commerce published its affirmative final determinations in the less-than-fair-value (LTFV) investigations of forged steel fluid end blocks from Germany and Italy.¹ On December 14, 2020, Commerce received a ministerial error allegation with respect to its final determination in the forged steel fluid end blocks from Germany investigation.² See the “Amendment to Final Determination for Germany” section of this notice for further discussion. On January 25, 2021, the ITC notified Commerce of its final determinations, pursuant to section 735(d) of the Tariff Act of 1930, as amended (the Act), that an industry in the United States is materially injured within the meaning of section 735(b)(1)(A)(i) of the Act by reason of LTFV imports of forged steel fluid end blocks from Germany and Italy.³

¹ See Forged Steel Fluid End Blocks from the Federal Republic of Germany: Final Determination of Sales at Less Than Fair Value, 85 FR 80018 (December 11, 2020) (Germany Final Determination); and Forged Steel Fluid End Blocks from Italy: Final Determination of Sales at Less Than Fair Value, 85 FR 79996 (December 11, 2020).

² See FEB Fair Trade Coalition's Letter, “Forged Steel Fluid End Blocks from Germany: Petitioner's Allegation of Ministerial Errors in the Final Determination,” dated December 14, 2020.

³ See ITC Notification Letter, Investigation Nos. 701-TA-632-635 and 731-TA-1466 and 1468 (Final), dated January 25, 2021 (ITC Notification Letter).

Scope of the Orders

The product covered by these orders is forged steel fluid end blocks from Germany and Italy. For a complete description of the scope of these orders, see the Appendix to this notice.

Amendment to Final Determination for Germany

A ministerial error is defined as an error in addition, subtraction, or other arithmetic function, clerical error resulting from inaccurate copying, duplication, or the like, and any other similar type of unintentional error which the Secretary considers ministerial.⁴ Pursuant to section 735(e) of the Act and 19 CFR 351.224(e) and (f), Commerce is amending the Germany Final Determination to reflect the correction of a ministerial error in the final estimated weighted-average dumping margin calculated for BGH Edelstahl Siegen GmbH (BGH).⁵ In addition, because BGH's estimated weighted-average dumping margin is the basis for the estimated weighted-average dumping margins for Schmiedewerke Groditz GmbH (SWG) and voestalpine Bohler Group (voestalpine), as well as the estimated weighted-average dumping margin determined for all other German producers and exporters of subject merchandise, we also are revising the estimated weighted-average dumping margins for SWG, voestalpine and the all-others rate in the Germany Final Determination.⁶

⁴ See section 735(e) of the Act; see also 19 CFR 351.224(f).

⁵ See Memorandum, “Final Determination of Sales at Less-Than-Fair-Value: Forged Steel Fluid End Blocks from the Federal Republic of Germany: Ministerial Error Allegation,” dated December 23, 2020 (Ministerial Error Memorandum).

⁶ See infra, section on “Estimated Weighted-Average Dumping Margins”; see also Ministerial Error Memorandum.

Antidumping Duty Orders

On January 25, 2021, in accordance with section 735(d) of the Act, the ITC notified Commerce of its final determinations in these investigations, in which it found that an industry in the United States is materially injured by reason of imports of forged steel fluid end blocks from Germany and Italy.⁷ Therefore, in accordance with section 735(c)(2) of the Act, Commerce is issuing these antidumping duty orders. Because the ITC determined that imports of forged steel fluid end blocks from Germany and Italy are materially injuring a U.S. industry, unliquidated entries of such merchandise from Germany and Italy, entered or withdrawn from warehouse for consumption, are subject to the assessment of antidumping duties.

⁷ See ITC Notification Letter; see also Fluid End Blocks from China, Germany, India, and Italy (Inv. Nos. 701-TA-632-635 and 731-TA-1466 and 1468 (Final), USITC Publication 5152, January 2021).

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of forged steel fluid end blocks from Germany and Italy. With the exception of entries occurring after the expiration of the provisional measures period and before publication of the ITC's final affirmative injury determinations, as further described below, antidumping duties will be assessed on unliquidated entries of forged steel fluid end blocks from Germany and Italy entered, or withdrawn from warehouse, for consumption, on or after July 23, 2020, the date of publication of the preliminary determinations.⁸

⁸ See Forged Steel Fluid End Blocks from the Federal Republic of Germany: Preliminary Affirmative Determination of Sales at Less Than Fair Value, Postponement of Final Determination, and Extension of Provisional Measures, 85 FR 44513 (July 23, 2020) (Germany Preliminary Determination); and Forged Steel Fluid End Blocks from Italy: Preliminary Affirmative Determination of Sales at Less Than Fair Value, Postponement of Final Determination, and Extension of Provisional Measures, 85 FR 44500 (July 23, 2020) (Italy Preliminary Determination).

Continuation of Suspension of Liquidation

Except as noted in the “Provisional Measures” section of this notice, in accordance with section 735(c)(1)(B) of the Act, Commerce will instruct CBP to continue to suspend liquidation on all relevant entries of forged steel fluid end blocks from Germany and Italy. These instructions suspending liquidation will remain in effect until further notice.

Commerce will also instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the rates listed below. The relevant all-others rate applies to all producers or exporters not specifically listed.

Because the estimated weighted-average dumping margin is zero for subject merchandise produced and exported by Metalcam S.p.A., entries of shipments of subject merchandise from this producer/exporter combination are excluded from the antidumping duty order on subject merchandise from Italy. This exclusion will not be applicable to merchandise exported to the United States by this respondent in any other producer/exporter combination or by third parties that sourced subject merchandise from the excluded producer/exporter combination.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of forged steel fluid end blocks from Germany and Italy, Commerce extended the four-month period to six months in each of these investigations. Commerce published the preliminary determinations in these investigations on July 23, 2020.⁹

⁹ See Germany Preliminary Determination and Italy Preliminary Determination.

The extended provisional measures period, beginning on the date of publication of the preliminary determinations, ended on January 18, 2021. Therefore, in accordance with section 733(d) of the Act and our practice,¹⁰ Commerce will instruct CBP to terminate the suspension of liquidation and to liquidate, without regard to antidumping duties, unliquidated entries of forged steel fluid end blocks from Germany and Italy entered, or withdrawn from warehouse, for consumption after January 18, 2021, the final day on which the provisional measures were in effect, until and through the day preceding the date of publication of the ITC's final affirmative injury determinations in the Federal Register. Suspension of liquidation and the collection of cash deposits will resume on the date of publication of the ITC's final determinations in the Federal Register.

¹⁰ See, e.g., Certain Corrosion-Resistant Steel Products from India, India, the People's Republic of China, the Republic of Korea and Taiwan: Amended Final Affirmative Antidumping Determination for India and Taiwan, and Antidumping Duty Orders, 81 FR 48390, 48392 (July 25, 2016).

Estimated Weighted-Average Dumping Margins

The estimated weighted-average dumping margins are as follows:

Germany

Exporter/producer | Estimated weighted- average dumping margin (percent)
BGH Edelstahl Siegen GmbH | 4.79
Schmiedewerke Groditz GmbH | 78.36
voestalpine Bohler Group | 78.36
All Others | 4.79

Italy

Exporter/producer | Estimated weighted- average dumping margin (percent)
Metalcam S.p.A | ¹¹ 0.00
Lucchini Mame Forge S.p.A | 7.33
IMER International S.p.A | 58.48
Galperti Group | 58.48
Mimest S.p.A | 58.48
P. Technologies S.r.L | 58.48
All Others | 7.33

¹¹ After the final determination, Commerce directed CBP not to suspend liquidation of entries of subject merchandise produced and exported by Metalcam S.p.A. Subject merchandise from this producer/exporter combination is excluded from the antidumping duty order on Italy. See “Continuation of Suspension of Liquidation” section above.

Notification to Interested Parties

This notice constitutes the antidumping duty orders with respect to forged steel fluid end blocks from Germany and Italy pursuant to section 736(a) of the Act. Interested parties can find a list of antidumping duty orders currently in effect at http://enforcement.trade.gov/stats/iastats1.html.

This amended final determination and antidumping duty orders are published in accordance with sections 735(e) and 736(a) of the Act and 19 CFR 351.224(e) and 19 CFR 351.211(b).

Dated: January 25, 2021.
Christian Marsh,
Acting Assistant Secretary for Enforcement and Compliance.

Appendix

Scope of the Orders

The products covered by these orders are forged steel fluid end blocks (fluid end blocks), whether in finished or unfinished form, and which are typically used in the manufacture or service of hydraulic pumps.

The term “forged” is an industry term used to describe the grain texture of steel resulting from the application of localized compressive force. Illustrative forging standards include, but are not limited to, American Society for Testing and Materials (ASTM) specifications A668 and A788.

For purposes of these orders, the term “steel” denotes metal containing the following chemical elements, by weight: (i) Iron greater than or equal to 60 percent; (ii) nickel less than or equal to 8.5 percent; (iii) copper less than or equal to 6 percent; (iv) chromium greater than or equal to 0.4 percent, but less than or equal to 20 percent; and (v) molybdenum greater than or equal to 0.15 percent, but less than or equal to 3 percent. Illustrative steel standards include, but are not limited to, American Iron and Steel Institute (AISI) or Society of Automotive Engineers (SAE) grades 4130, 4135, 4140, 4320, 4330, 4340, 8630, 15-5, 17-4, F6NM, F22, F60, and XM25, as well as modified varieties of these grades.

The products covered by these orders are: (1) Cut-to-length fluid end blocks with an actual height (measured from its highest point) of 8 inches (203.2 mm) to 40 inches (1,016.0 mm), an actual width (measured from its widest point) of 8 inches (203.2 mm) to 40 inches (1,016.0 mm), and an actual length (measured from its longest point) of 11 inches (279.4 mm) to 75 inches (1,905.0 mm); and (2) strings of fluid end blocks with an actual height (measured from its highest point) of 8 inches (203.2 mm) to 40 inches (1,016.0 mm), an actual width (measured from its widest point) of 8 inches (203.2 mm) to 40 inches (1,016.0 mm), and an actual length (measured from its longest point) up to 360 inches (9,144.0 mm).

The products included in the scope of these orders have a tensile strength of at least 70 KSI (measured in accordance with ASTM A370) and a hardness of at least 140 HBW (measured in accordance with ASTM E10).

A fluid end block may be imported in finished condition (i.e., ready for incorporation into a pump fluid end assembly without further finishing operations) or unfinished condition (i.e., forged but still requiring one or more finishing operations before it is ready for incorporation into a pump fluid end assembly). Such finishing operations may include: (1) Heat treating; (2) milling one or more flat surfaces; (3) contour machining to custom shapes or dimensions; (4) drilling or boring holes; (5) threading holes; and/or (6) painting, varnishing, or coating.

Excluded from the scope of these orders are fluid end block assemblies which (1) include (a) plungers and related housings, adapters, gaskets, seals, and packing nuts, (b) valves and related seats, springs, seals, and cover nuts, and (c) a discharge flange and related seals, and (2) are otherwise ready to be mated with the “power end” of a hydraulic pump without the need for installation of any plunger, valve, or discharge flange components, or any other further manufacturing operations.

The products included in the scope of these orders may enter under Harmonized Tariff Schedule of the United States (HTSUS) subheadings 7218.91.0030, 7218.99.0030, 7224.90.0015, 7224.90.0045, 7326.19.0010, 7326.90.8688, or 8413.91.9055. While these HTSUS subheadings are provided for convenience and customs purposes, the written description of the scope of the orders is dispositive.

[FR Doc. 2021-01979 Filed 1-28-21; 8:45 am]

BILLING CODE 3510-DS-P